DEPARTMENT OF DEFENSE

GENERAL SERVICES ADMINISTRATION

NATIONAL AERONAUTICS AND SPACE ADMINISTRATION

[OMB Control No. 9000-0184; Docket No. 2022-0053; Sequence No. 15]

Submission for OMB Review; Contractors Performing Private Security Functions Outside the United States

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement concerning contractors performing private security functions outside the United States.

DATES: Submit comments on or before August 31, 2022.]

ADDRESSES: Written comments and recommendations for this information collection should be sent within 30 days of publication of this notice to www.reginfo.gov/public/do/PRAMain. Find this particular information collection by selecting “Currently under Review—Open for Public Comments” or by using the search function.

Additionally, submit a copy to GSA through https://www.regulations.gov and follow the instructions on the site. This website provides the ability to type short comments directly into the comment field or attach a file for lengthier comments.

Instructions: All items submitted must cite OMB Control No. 9000-0184, Contractors Performing Private Security Functions Outside the United States. Comments received generally will be posted without change to https://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Ms. Carrie Moore, Procurement Analyst, at telephone 571-300-5917, or carrie.moore@gsa.gov.

SUPPLEMENTARY INFORMATION:

A. OMB Control Number, Title, and Any Associated Form(s)

9000-0184, Contractors Performing Private Security Functions Outside the United States

B. Needs and Uses

This justification supports an extension of the expiration date of OMB Control No. 9000-0184. This clearance covers the information that contractors must submit to comply with FAR clause 52.225-26, Contractors Performing Private Security Functions Outside the United States. When contract performance is required outside the United States in an area of combat operations or significant military operations, this clause requires contractors to ensure employees performing private security functions under the contract comply with 32 CFR part 159, and any orders, directives, or instructions that are identified in the contract for: (1) Registering, processing, accounting for, managing, overseeing, and keeping appropriate records of personnel performing private security functions; (2) Requesting authorization of and accounting for weapons to be carried by or available to personnel performing private security functions; (3) Registering and identifying armored vehicles, helicopters, and other military vehicles operated by employees performing private security functions; and (4) Reporting incidents in which personnel performing private security functions: discharge a weapon; are attacked, killed, or injured; kill or injure a person or destroy property as a result of conduct by contractor personnel; have a weapon discharged against them or believe a weapon was so discharged; or employ active, non-lethal countermeasures in response to a perceived immediate threat.

The information provided in accordance with FAR clause 52.225-26 is used to ensure accountability, visibility, force protection, medical support, personnel recovery, and other related support can be accurately forecasted and provided to deployed contractors, as required.

C. Annual Burden

Respondents: 28.

Total Annual Responses: 140.

Total Burden Hours: 70.

D. Public Comment

A 60-day notice was published in the Federal Register at 87 FR 29315, on May 13, 2022. No comments were received. Obtaining Copies: Requesters may obtain a copy of the information collection documents from the GSA Regulatory Secretariat Division, by calling 202-501-4755 or emailing GSARegSec@gsa.gov. Please cite OMB Control No. 9000-0184, Contractors Performing Private Security Functions Outside the United States.

Janet Fry,
Director, Federal Acquisition Policy Division, Office of Governmentwide Acquisition Policy, Office of Acquisition Policy, Office of Governmentwide Policy.

[FR Doc. 2022-16402 Filed 7-29-22; 8:45 am]

BILLING CODE 6820-EP-P